FEDERAL EMERGENCY MANAGEMENT AGENCY

44 CFR Part 67

[Docket No. FEMA-B-7408]

Proposed Flood Elevation Determinations

AGENCY: Federal Emergency Management Agency (FEMA).

ACTION: Proposed rule.

SUMMARY: Technical information or comments are requested on the proposed base (1% annual chance) flood elevations and proposed base flood elevation modifications for the communities listed below. The base flood elevations and modified base flood elevations are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed base flood elevations for each community are available for inspection at the office of the Chief Executive Officer of each community. The respective addresses are listed in the following table.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency proposes to make determinations of base flood elevations and modified base flood elevations for each community listed below, in accordance with Section 110 of the Flood Disaster Protection Act of 1973, 42 U.S.C. 4104, and 44 CFR 67.4(a).

These proposed base flood and modified base flood elevations, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Associate Director for Mitigation certifies that this proposed rule is exempt from the requirements of the Regulatory Flexibility Act because proposed or modified base flood elevations are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612

Federalism. This proposed rule involves no policies that have federalism implications under Executive Order 12612, Federalism, dated October 26, 1987.

Executive Order 12778

Civil Justice Reform. This proposed rule meets the applicable standards of Section 2(b)(2) of Executive Order 12778.

List of Subjects in 44 CFR Part 67

Administrative practice and procedure, Flood insurance, Reporting and recordkeeping requirements.

Accordingly, 44 CFR part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376

§ 67.4 [Amended]

2. The tables published under the authority of § 67.4 are proposed to be amended as follows:

State | City/town/county | Source of flooding | Location | #Depth in feet above ground. *Elevation in feet. (NGVD): Existing | #Depth in feet above ground. *Elevation in feet. (NGVD): Modified
California | Clayton (City), (Contra Costa, County) | Donner Creek | At confluence with Mt. Diablo Creek | *421 | *424
|  |  | Approximately 4,400 feet upstream of Marsh Creek Creek Road | *516 | *516
|  | Mitchell Creek | At confluence with Mt. Diablo Creek | *377 | *379
|  |  | Approximately 1,600 feet upstream of Oak Street | *439 | *444
|  | Mt. Diablo Creek | Just upstream of Kirker Pass Road | *306 | *304
|  |  | Just upstream of Oak Circle | None | *576
|  | Mt. Diablo Creek Split Flow | Approximately 630 feet downstream of North Mitchell Canyon Road | None | *342
|  |  | Approximately 1,700 feet upstream of North Mitchell Canyon Raod | None | *370
Maps are available for inspection at 6000 Heritage Trail, Clayton, California.
Send comments to The Honorable Phyllis Peterson, Mayor, City of Clayton, 6000 Heritage Trail, Clayton, California 94517-0280.
California | Concord (City) (Contra Costa County) | Galindo Creek | Approximately 100 feet upstream of San Miguel Road | None | *63
|  |  | Just upstream of St. Francis Drive | None | *127
|  |  | Approximately 200 feet downstream of Dam #1 | None | *220
|  | Mt. Diablo Creek | Approximately 2,675 feet downstream of Bailey Road | *195 | *196
|  |  | Approximately 2,475 feet upstream of Kirker Pass Road | None | *323
Maps are available for inspection at the Permit Center, 3024 Willow Pass Road, Concord, California.
Send comments to The Honorable Helen Allen, Mayor, City of Concord, 1950 Parkside Drive, Concord, California 94519.
California | Contra Costa County (Unincorporated Areas) | Mitchell Creek | Approximately 1,670 feet downstream of Diablo Downs Road | *440 | *444
|  |  | Approximately 2,150 feet upstream of Diablo Downs Road | *518 | *535
|  | Mt. Diablo Creek | Immediately upstream of Bailey Road | None | *217
|  |  | Downstream of Russelman Park Road | None | *609
|  | Green Valley Creek | At Stone Valley Road | None | *467
|  |  | Approximately 4,410 feet upstream of Green Valley Road | None | *573
|  | Rodeo Creek | At confluence with San Pablo Creek | None | *6
|  |  | Approximately 425 feet upstream of Hawthorne Drive | None | *28
|  | Garrity Creek | Approximately 350 feet downstream of Southern Pacific Railroad | None | *6
|  |  | Approximately 165 feet upstream of Brian Road | None | *25
|  | Grayson Creek | Approximately 1,890 feet (.36 mile) downstream of Interstate 680 | None | *15
|  |  | Approximately 195 feet upstream of 2nd Avenue South | None | *20
|  | Arroyo Del Hambra Creek | Approximately 1,280 feet (.24 mile) upstream of Alhambra Avenue | None | *176
|  |  | Approximately 2,858 feet (.54 mile) upstream of Alhambra Avenue | None | *190
|  | Appian Creek | At upstream side of Garden Road | None | *108
|  |  | Approximately 1,320 feet upstream of Appian Way | None | *134
|  | West Alamo Creek | Approximately 2,870 feet (.54 mile) downstream of Green Meadow Drive | None | *718
|  |  | At upstream side of BlackHawk Meadow Drive | None | *804
|  | Wildcat Creek | Approximately 475 feet downstream of Atchison, Topeka and Santa Fe Railroad | None | *29
Maps are available for inspection at the Public Works Department, 255 Glacier Drive, Marinez, California 94553.
Send comments to The Honorable Donna Gerber, Chairperson, Board of Supervisors, 309 Diablo Road, Danville, California 94526.
California | Danville (Town) (Contra Costa County) | Green Valley Creek | Just upstream of Interstate 680 Culvert | *354 | *355
|  |  | Just downstream of Stone Valley Road | None | *467
|  | East Branch Valley Creek | At confluence with Green Valley Creek | *424 | *423
|  |  | Approximately 1,600 feet upstream of Green Valley Road | *458 | *458
Maps are available for inspection at 510 La Gonda Way, Danville, California.
Send comments to The Honorable Millie Greenberg, Mayor, Town of Danville, 510 La Gonda Way, Danville, California 94526.
California | Martinez (City) (Contra Costa County) | Arroyo Del Hambra Creek | Just upstream of John Muir Parkway | *116 | *116
|  |  | Approximately 2,000 feet upstream of Alhambra Avenue | None | *180
|  |  | Approximately 950 feet downstream of Howe Road | None | *22
|  | Line A, DA-40 | Approximately 75 feet downstream of Howe Road | None | *23
Maps are available for inspection at 525 Henrietta Street, Martinez, California.
Send comments to The Honorable Michael M. Menesini, Mayor, City of Martinez, 525 Henrietta Street, Martinez, California 94553.
California | Pittsburg (City) (Contra Costa County) | Kirker Creek | Approximately 170 feet downstream of East 14th Street | *38 | *37
|  |  | Approximately 140 feet upstream of Brush Creek Drive | *193 | *208
Maps are available for inspection at the Department of Public Works, 65 Civic Avenue, Pittsburg, California.
Send comments to The Honorable Lori Anzini, Mayor, City of Pittsburg, 65 Civic Avenue, Pittsburg, California 94565.
California | Pleasant Hill (City) (Contra Costa County) | Grayson Creek | Approximately 2,725 feet downstream of Concord Avenue | None | *20
|  |  | Approximately 250 feet upstream of Harriett Drive | None | *37
|  | East Fork Grayson Creek | At confluence with Grayson Creek and West Fork Grayson Creek | None | *37
|  |  | Approximately 80 feet upstream of Gregory Lane | None | *49
Maps are available for inspection at the Public Works Department, 100 Gregory Lane, Pleasant Hill, California.
Send comments to The Honorable Chuck Escover, Mayor, City of Pleasant Hill, 100 Gregory Lane, Pleasant Hill, California 94523.
California | Richmond (City) (Contra Costa County) | San Pablo Creek | Approximately 690 feet downstream of Atchison, Topeka and Santa Fe Railway | *3 | *18
|  |  | Approximately 60 feet upstream of Atchison, Topeka and Santa Fe Railway | *31 | *24
|  | Wild Cat Creek | Approximately 400 feet downstream of Atchison, Topeka and Santa Fe Railway | *3 | *27
|  |  | At Atchison, Topeka and Santa Fe Railway | *3 | *30
|  |  | Approximately 115 feet upstream of Atchison, Topeka and Santa Fe Railway | *31 | *31
Maps are available for inspection at the Community Map Repository, City of Richmond, 2600 Barrett Avenue, Richmond, California.
Send comments to The Honorable Rosemary Corbin, Mayor, City of Richmond, 2600 Barrett Avenue, Room 312, Richmond, California 94802.
California | San Pablo (City) Contra Costa County | Wildcat Creek | Approximately 700 feet downstream of Rumrill Boulevard | ¹ 31 | *30
|  |  | Just downstream of Creek Vale Road | ¹ 81 | *81
|  | San Pablo Creek | Approximately 50 feet downstream of Giant Road | ¹ 29 | *24
|  |  | Approximately 100 feet upstream of Church Lane | ¹ 57 | *57
¹ Mean Sea Level
Maps are available for inspection at One Alvarado Square, San Pablo, California.
Send comments to The Honorable Ron Kiedrowski, Acting City Manager, City of San Pablo, One Alvarado Square, San Pablo, California 94806.
Idaho | Idaho County (Unincorporated Areas) | Rapid River | Approximately 250 feet upstream of Interstate Highway 95 | None | *2,002
|  |  | Approximately 4,830 feet upstream of Interstate Highway 95 | None | *2,078
Maps are available for inspection at 320 West Main Street, Grangeville, Idaho.
Send comments to The Honorable George Enneking, Chairman, Idaho County Board of Commissioners, 320 West Main Street, Room 5, Grangeville, Idaho 83530.
Oregon | Tillamook (City) (Tillamook County) | Dougherty Slough | At Main Avenue | *11 | *11
|  |  | Approximately 775 feet upstream of Main Avenue | *11 | *12
|  | Hoquarten Slough | Approximately 1,450 feet downstream of U.S. Highway 101—Main Avenue | *11 | *11
|  |  | Approximately 675 feet upstream of U.S. Highway 101—Main Avenue | *11 | *13
|  | Wilson River | Approximately 230 feet upstream of U.S. Highway 101 | None | *17
|  |  | Approximately 975 feet upstream of U.S. Highway 101 | None | *18
Maps are available for inspection at City Hall, 210 Laurel Avenue, Tillamook, Oregon.
Send comments to The Honorable Robert McPheeters, Mayor, City of Tillamook, 210 Laurel Avenue, Tillamook, Oregon 97141.
Oregon | Tillamook County (Unincorporated Areas) | Dougherty Slough (Wilson River) | At confluence with Hoquarten Slough | *10 | *10
|  |  | Approximately 2,800 feet upstream of Wilson River Loop Road | *28 | *27
|  | Hoquarten Slough (Wilson River) | Approximately 3,250 feet upstream of confluence with Trask River | *10 | *10
|  |  | Approximately 700 feet upstream of Southern Pacific Railroad | *12 | *15
|  | Wilson River | Approximately 150 feet upstream of confluence with Tillamook Bay | *9 | *10
|  |  | Approximately 4,300 feet upstream of Wilson River Loop Road | *29 | *28
Maps are available for inspection at the County Courthouse, 201 Laurel Avenue, Tillamook, Oregon.
Send comments to The Honorable Tim Josi, Chairperson, Tillamook County Board of Commissioners, 201 Laurel Avenue, Tillamook, Oregon 97141.

(Catalog of Federal Domestic Assistance No. 83.100, “Flood Insurance.”)
Dated: December 7, 2000.
Michael J. Armstrong,
Associate Director for Mitigation.

[FR Doc. 01-469 Filed 1-8-01; 8:45 am]

BILLING CODE 6718-04-P